DEPARTMENT OF HEALTH AND HUMAN SERVICES

National Institutes of Health

Proposed Data Collection; Comment Request; Health Information National Trends Survey (HINTS)

SUMMARY: In compliance with the requirement of Section 3506(c)(2)(A) of the Paperwork Reduction Act of 1995 for opportunity for public comment on proposed data collection projects, the National Institutes of Health (NIH), National Cancer Institute (NCI) will publish periodic summaries of proposed projects to be submitted to the Office of Management and Budget (OMB) for review and approval.

Proposed Collection

Title: Health Information National Trends Survey (HINTS). Type of Information Collection Request: New. Need and Use of Information Collection: As a result of the ongoing and rapidly expanding communication revolution (e.g., the development of the Internet), there is an unprecedented opportunity to rapidly communicate information about cancer and other health topics to the general public. Developing appropriate messages for the public about cancer prevention, detection, diagnosis, treatment, and survivorship requires an understanding of individuals' sources and access to cancer-related information, their knowledge about cancer and other health information, or the factors that enhance or may hinder access, use, or knowledge of health information.

The HINTS is a new telephone survey designed to provide nationally representative, population-based standardized data on health knowledge and health information for the United States. The survey will establish important baseline data about cancer communication practices, preferences for information, and cancer knowledge across the country. This survey will provide data on the public's perceived needs for cancer information, sources and access to health information (e.g., health care providers, Internet, mass media), current knowledge and understanding about cancer prevention and detection, and the barriers to more effectively understanding and utilizing cancer-related information. The HINTS is intended to be conducted every 2 years to measure progress in improving cancer knowledge and communication among the general public. The survey will be administered to one sample adult in 12,000 households, and is intended to have an adequate sample size to produce stable estimates for racial and ethnic minority populations.

Data from this survey are essential for NCI to develop improved cancer-related messages and materials and to tailor these messages for different audiences, especially for cancer prevention and detection. Data will be used to help selecting the best means of communicating cancer-related messages to different audiences (communication channels) to reach the diverse audiences in the United States. Finally, information obtained in this survey data will be used to identify research gaps and to guide the direction and decisions about NCI's research efforts in health promotion and health communication.

Frequency of response: One-time. Affected public: Individuals. Type of Respondents: U.S. adults. The annual reporting burden is as follows:

Table X.—Annualized Burden Estimates for Hints Data Collection
Data collection | Estimated number of respondents | Frequency of response | Average time per response | Annual burden hours
Pilot Survey | 150 | 1 | 0.333 | 50
HINTS | 12,000 | 1 | 0.333 | 4,000
Totals | 12,150 |  |  | 4,050

There are no Capital Costs to report. There are no Operating or Maintenance Costs to report.

Request for Comments: Written comments and/or suggestions from the public and affected agencies are invited on one or more of the following points: (1) Whether the proposed collection of information is necessary for the proposed performance of the functions of the agency, including whether the information shall have practical utility; (2) The accuracy of the estimate of the burden of the proposed collection of information including the validity of the methodology and assumptions used; (3) Ways to enhance the quality, utility, and clarity of the information to be collected; and (4) Ways to minimize the burden of the collection of information on those who are to respond, including the use of appropriate automated, electronic, mechanical, or other technological collection techniques or other forms of information technology.

FOR FURTHER INFORMATION CONTACT: To request more information on the proposed project or to obtain a copy of the data collection plans and instruments, contact David E. Nelson, M.D., M.P.H., Project Officer, National Cancer Institute, EPN 4068, 6130 Executive Boulevard MSC 7365, Bethesda, Maryland 20852-7365, or call non-toll-free number (301) 594-9904, or FAX your request to (301) 480-2087, or E-mail your request, including your address, to dn83r@nih.gov.

Comments Due Date: Comments regarding this information collection are best assured of having their full effect if received within 30 days of this notice.

Dated: December 15, 2000.
Reesa L. Nichols,
OMB Clearance Liaison.

[FR Doc. 00-32595 Filed 12-20-00; 8:45 am]

BILLING CODE 4140-01-M